DEPARTMENT OF HEALTH AND HUMAN SERVICES

Centers for Disease Control and Prevention

Announcement of Requirements and Registration for the REACH Lark Galloway-Gilliam Nomination for Advancing Health Equity Challenge (REACH Lark Award Challenge)

AGENCY: Centers for Disease Control and Prevention (CDC), Department of Health and Human Services (HHS).

ACTION: Notice.

SUMMARY: The Centers for Disease Control and Prevention (CDC), located within the Department of Health and Human Services (HHS), announces the 2022 Racial and Ethnic Approaches to Community Health (REACH) Lark Galloway-Gilliam for Advancing Health Equity Award Challenge (REACH Lark Award Challenge). This biennial challenge was established in 2019 to recognize extraordinary individuals, organizations, or community coalitions associated with the REACH program whose work has contributed to the implementation of culturally tailored interventions that advance health equity, reduce health disparities, and increase community engagement to address preventable risk factors (e.g., tobacco use, poor nutrition, physical inactivity, and inadequate access to clinical services).

DATES: The Challenge will accept applications from February 7, 2022 through March 18, 2022.

Award Approving Official: Rochelle P. Walensky, MD, MPH, Director, Centers for Disease Control and Prevention, and Administrator, Agency for Toxic Substances and Disease Registry.

FOR FURTHER INFORMATION CONTACT: Kristy Mugavero, National Center for Chronic Disease Prevention and Health Promotion, Centers for Disease Control and Prevention, 4770 Buford Hwy. NE, Mailstop S107-5, Atlanta, GA 30341, Telephone: 770-488-2047, Email: dnpaopolicy@cdc.gov.

SUPPLEMENTARY INFORMATION: Racial and ethnic disparities in health remain pervasive across the United States. CDC administers REACH, a national program that provides funding to state and local health departments, tribes, universities, and community-based organizations. Since REACH was established in 1999, the program has demonstrated success in addressing these disparities and promoting health equity by engaging with diverse communities and implementing culturally tailored interventions. For more information about the REACH program, visit https://www.cdc.gov/nccdphp/dnpao/state-local-programs/reach/index.htm.

The intent of this challenge is to recognize individuals and organizations or community coalitions associated with the REACH program that meaningfully assisted with and carried out culturally tailored interventions that advance health equity, reduce health disparities, and increase community engagement to address preventable risk factors (e.g., tobacco use, poor nutrition, physical inactivity, and inadequate access to clinical services) in populations or groups disproportionately affected by chronic disease; specifically, African American/Black, American Indian or Alaska Native, Asian, Hispanic or Latino, and Native Hawaiian or other Pacific Islander persons. To support the science and practice of improving health equity, this challenge can help further the goals of the REACH program by documenting and further disseminating the innovative or unique interventions employed by individuals, organizations or community coalitions applying or nominated for this award.

Subject of Challenge Competition: The challenge is authorized by Public Law 111-358, the America Creating Opportunities to Meaningfully Promote Excellence in Technology, Education and Science Reauthorization Act of 2010 (COMPETES Act).

The “applicant” refers to each individual, organization, or community coalition who submits an application or nomination. The “nominee” refers to each individual or organization/community coalition who is nominated, whether self-nominated or nominated by a separate applicant.

Applicants will be asked to respond to a series of questions related to how the nominee assisted with and carried out culturally tailored interventions to advance health equity, reduce health disparities, and increase community engagement to address preventable risk factors (e.g., tobacco use, poor nutrition, physical inactivity, and inadequate access to clinical services) in populations or groups disproportionately affected by chronic disease; specifically African American/Black, American Indian or Alaska Native, Asian, Hispanic or Latino, and Native Hawaiian or other Pacific Islander persons.

Eligibility Rules for Participating in the Challenge

The REACH Lark Award Challenge is open to the public. To be eligible for this award, nominees must meet the following eligibility requirements:

(1) Shall have completed the application (for self-nominees) or have had an application submitted on their behalf (for those nominate by others) for the competition under the rules promulgated by HHS/CDC;

(2) Shall have complied with all the requirements under this section and satisfy one of the following requirements:

a. Be a currently or previously funded CDC REACH recipient that has not previously received the REACH Lark Award in any year; or

b. Be a technical assistance provider to a former or current REACH recipient (current and past REACH recipients can be found at: https://www.cdc.gov/nccdphp/dnpao/state-local-programs/reach/index.htm); or

c. Be a partner organization, part of a partner network, or coalition members that collaborated on REACH-related work with a current or previously funded REACH recipient;

(3) Shall not have been a REACH Lark Award Challenge recipient in any previous year;

(4) Shall be either:

a. A U.S. citizen or legal permanent resident, eighteen years of age or older, if the nominee is an individual or group of individuals; or

b. Incorporated in and maintain a primary place of business in the United States, if the nominee is an entity; where the United States means a state, the District of Columbia, the Commonwealth of Puerto Rico, and any other territory or possession of the United States;

(5) Shall not be a federal entity or federal employee acting within the scope of their employment;

(6) Shall not be an employee of or contractor of CDC;

(7) Shall not use federal funds to develop COMPETES Act challenge applications for this challenge, if the applicant is a federal grantee;

(8) Shall not use federal funds from a contract to develop COMPETES Act challenge applications or to fund efforts in support of a COMPETES Act challenge submission, if the applicant is a federal contractor;

(9) Shall not be deemed ineligible because an individual or team applicant or nominee used federal facilities or consulted with federal employees during a competition if the facilities and employees are made available to all individuals and entities participating in the competition on an equitable basis.

(10) By participating, the applicant represents, warrants, and agrees that the entry contains accurate information. If an applicant is nominating another individual, organization, community coalition (e.g., not self-nominating), the applicant must provide acknowledgement in writing that the nominee consents to being nominated.

(11) Applicants and nominees must agree to be recognized if selected as a winner and agree to participate in an interview with CDC staff to provide information that may be used by CDC staff to write a success story that describes the intervention(s) that promoted health equity. Winners and their intervention(s) may be recognized and the success story may be made public, including but not limited to, posted on the CDC's Division of Nutrition, Physical Activity, and Obesity website, the CDC website, social media, or other communication platforms, some combination of these communication channels, or all of these channels.

(12) By participating in this challenge, applicants agree to assume any and all risks related to participating in the challenge. Applicants also agree to waive claims against the federal government and its related entities, except in the case of willful misconduct, when participating in the challenge, including claims for injury; death; damage; or loss of property, money, or profits; and including those risks caused by negligence or other causes.

Registration Process for Participants

To participate and submit an application, interested parties should go to https://www.challenge.gov. The application requires responses to six questions; the answer to each question should be no longer than 300 words. Generally, the questions ask the applicant to describe how the nominee assisted with and carried out culturally tailored interventions that achieve health equity, reduce health disparities, and increase community engagement to address preventable risk factors (e.g., tobacco use, poor nutrition, physical inactivity, and inadequate access to clinical services) in populations or groups disproportionately affected by chronic disease.

Applicants can also submit evidence that demonstrates that the criteria were met through publications, links to online content, and other forms of written material.

Amount of the Prize

No cash prize will be awarded. A maximum of two nominees (one individual and one organization or community coalition) will receive a plaque (“Winner”). While the winners may be invited to meetings by CDC, attendance at such events is not required as a condition of accepting the award.

Basis Upon Which Winners Will Be Selected

CDC's Division of Nutrition, Physical Activity, and Obesity (DNPAO) Policy Office will convene a panel of three to five internal and external experts (panel members may recuse themselves in the event of a conflict of interest related to the nominee) to review the applications and select up to two award recipients (one individual and one organization or community coalition) from all eligible entries based on:

• The extent to which the problem or challenge is clearly identified and the strategies that the nominee used to address the challenges are described.

• The extent to which nominee's work addresses one or more of the following preventable risk factors: Tobacco use, poor nutrition, physical inactivity, and inadequate access to clinical services that are related to chronic diseases such as hypertension, heart disease, type 2 diabetes, and obesity.

• The extent to which the nominee's work aligns with the National Center for Chronic Disease Prevention and Health Promotion's goals of achieving health equity by addressing social determinants of health. Examples of social determinants health include, but are not limited to the built environment, community-clinical linkages, food and nutrition security, social connectedness, and tobacco-free policies.

• The extent to which the solutions are culturally tailored, evidence or practice-based, and designed specifically to reduce health inequities for populations or groups disproportionately affected by chronic disease or related risk factors.

• The extent to which the nominee has actively and effectively engaged community members and partners across different sectors such as, but not limited to, transportation, healthcare, agriculture, emergency food systems, and faith-based organizations.

• The impact of the nominee's work in addressing preventable risk factors in populations or groups disproportionately affected by chronic disease.

Panel members will score applications on a 100-point scale to select the winners.

Additional Information

Information about the winners, such as the name and location of the individual, organization, or community coalition, priority population served, and health outcomes addressed, may be shared through press releases, the challenge website, and Division of Nutrition, Physical Activity, and Obesity and CDC Resources, and other publicly available platforms (e.g., social media, CDC website, etc.). Details regarding the winners and their applications may be shared with the public as part of recognition efforts.

Applicants and nominees who are not selected for the award may be asked for permission for CDC to share information about successful interventions that promoted health equity on CDC's Division of Nutrition, Physical Activity, and Obesity website, the CDC website, social media, or other platform generally with appropriate attribution to the applicant or nominee.

The award is named in honor of Lark Galloway-Gilliam, the founding Executive Director of Community Health Councils, Inc. (CHC). CHC began in 1992 to support planning, resource development, and policy education in response to the growing health crisis in the South Los Angeles area and other under-resourced and marginalized communities throughout Los Angeles County. Lark led the CHC team to engage communities and strengthen the connections among organizations in order to improve health, eliminate disparities, and achieve health equity. Under Lark's leadership, CHC became an expert in health equity in Los Angeles, across California, and the country. Lark also served in several leadership roles, including the first president of the National REACH Coalition, the MLK Medical center Advisory Board, and the IP3 Board of Directors for Community Commons.

Compliance With Rules and Contacting Challenge Winners

Applicants, nominees, and the REACH Lark Award Challenge winners must comply with all terms and conditions of these Official Rules and winning is contingent upon fulfilling all requirements herein. The winners will be notified by email, telephone, or mail after the date of the judging.

Privacy

If applicants choose to provide HHS/CDC with personal information by registering or filling out the application form through the Challenge.gov website, that information will only be used to respond to contestants in matters regarding their submission, announcements of entrants, finalists, and winners of the contest. Information is not collected for commercial marketing. Winners are permitted to cite that they won this contest.

General Conditions

CDC reserves the right to cancel, suspend, and/or modify the Challenge, or any part of it, for any reason, at CDC's sole discretion.

Participation in this Challenge constitutes an applicants' full and unconditional agreement to abide by the Challenge's Official Rules found at https://www.Challenge.gov.

Authority: 15 U.S.C. 3719.

Dated: February 1, 2022.
Angela K. Oliver,
Executive Secretary, Centers for Disease Control and Prevention.

[FR Doc. 2022-02409 Filed 2-3-22; 8:45 am]

BILLING CODE 4163-18-P